BUREAU OF CONSUMER FINANCIAL PROTECTION

[Docket No. CFPB-2020-0008]

Agency Information Collection Activities: Comment Request

AGENCY: Bureau of Consumer Financial Protection.

ACTION: Notice and request for comment.

SUMMARY: In accordance with the Paperwork Reduction Act of 1995 (PRA), the Bureau of Consumer Financial Protection (Bureau) is publishing this notice seeking comment on a Generic Information Collection titled, “Small Business Compliance Cost Survey under the Generic Information Collection Plan” titled, “Generic Information Collection Plan for Information on Compliance Costs and Other Effects of Regulations” prior to requesting Office of Management and Budget (OMB) approval of this collection of information.

DATES: Written comments are encouraged and must be received on or before February 18, 2020 to be assured of consideration.

ADDRESSES: You may submit comments, identified by the title of the information collection, OMB Control Number (see below), and docket number (see above), by any of the following methods:

• Regulations.gov: Go to http://www.regulations.gov. Follow the instructions for submitting comments.

• Email: PRA_Comments@cfpb.gov. Include Docket No. CFPB-2020-0008 in the subject line of the message.

• Mail/Hand Delivery/Courier: Comment Intake, Bureau of Consumer Financial Protection (Attention: PRA Office), 1700 G Street NW, Washington, DC 20552.

Please note that comments submitted after the comment period will not be accepted. In general, all comments received will become public records, including any personal information provided. Sensitive personal information, such as account numbers or Social Security numbers, should not be included.

FOR FURTHER INFORMATION CONTACT: Documentation prepared in support of this information collection request is available at www.regulations.gov. Requests for additional information should be directed to Darrin King, PRA Officer, at (202) 435-9575, or email: CFPB_PRA@cfpb.gov. If you require this document in an alternative electronic format, please contact CFPB_Accessibility@cfpb.gov. Please do not submit comments to these email boxes.

SUPPLEMENTARY INFORMATION:

Title of Collection: Small Business Compliance Cost Survey.

OMB Control Number: 3170-0032.

Type of Review: Request for approval of a generic information collection under an existing Generic Information Collection Plan.

Affected Public: Businesses and other for-profit institutions.

Estimated Number of Respondents: 120.

Estimated Total Annual Burden Hours: 60.

Abstract: Under section 1071 of the Dodd-Frank Wall Street Reform and Consumer Protection Act, the Equal Credit Opportunity Act was amended to require financial institutions, subject to a regulation to be issued by the Bureau to compile, maintain, and report to the Bureau certain information about applications for credit made by women-owned, minority-owned, and small businesses. As part of the statutory requirements of our rulemaking process, the Office of Research has developed a cost of compliance survey in an effort to more accurately measure the costs associated with rule implementation. More specifically, the objective of this survey is to solicit, from institutions offering small business credit products that could potentially be covered by this rule, information about potential one-time costs to prepare to collect and report data. This survey will not cover potential on-going costs from actually collecting and reporting data.

Request for Comments: The Bureau is publishing this notice and soliciting comments on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be submitted to OMB as part of its review of this request. All comments will become a matter of public record.

Dated: January 14, 2020.
Darrin King,
Paperwork Reduction Act Officer, Bureau of Consumer Financial Protection.

[FR Doc. 2020-00744 Filed 1-16-20; 8:45 am]

BILLING CODE 4810-AM-P